SECURITIES AND EXCHANGE COMMISSION

Issuer Delisting; Notice of Application To Withdraw From Listing and Registration; (Interchange Financial Services Corporation, Common Stock, No Par Value) File No. 1-10518

January 3, 2001.

Interchange Financial Services Corporation, a New Jersey corporation (“Company”), has filed an application with the Securities and Exchange Commission (“Commission”), pursuant to section 12(d) of the Securities Exchange Act of 1934 (“Act”) ¹ and Rule 12d2-2(d) thereunder,² to withdraw its Common Stock, no par value (“Security”), from listing and registration on the American Stock Exchange LLC (“Amex”).

¹ 15 U.S.C. 781(d).

² 17 CFR 240.12d2-2(d).

The Company has stated that the Security has been approved for quotation on the National Market of the Nasdaq Stock Market, Inc. (“Nasdaq National Market”), effective at the opening of business on Wednesday, January 17, 2001. The Company made the decision to transfer the trading of its Security from the Amex to the Nasdaq National Market based on its evaluation of the comparative marketing advantages and financial incentives available to investment companies quoted through the dealer network of the Nasdaq National Market.

The Company has stated in its application that it has complied with the rules of the Amex governing the withdrawal of an issue from listing and registration. The Company's application relates solely to the withdrawal of the Security from listing on the Amex and registration under section 12(b) of the Act,³ and shall have no effect upon the approval of its application for quotation of the Security on the Nasdaq National Market or its obligation to be registered under section 12(g) of the Act.⁴

³ 15 U.S.C. 781(b).

⁴ 15 U.S.C. 781(g).

Any interested person may, on or before January 25, 2001, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Margaret H. McFarland,
Deputy Secretary.

[FR Doc. 01-542 Filed 1-8-01; 8:45 am]

BILLING CODE 8010-01-M